DEPARTMENT OF LABOR

Employment and Training Administration

[TA-W-62,298]

Delphi Corporation, Thermal—Vandalia Plant, Including On-Site Leased Workers From Bartech, Vandalia, OH; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on October 24, 2007, applicable to workers of Delphi Corporation, Thermal—Vandalia Plant, Vandalia, Ohio. The notice was published in the Federal Register on November 6, 2007 (72 FR 62681).

At the request of the State agency, the Department reviewed the certification for workers of the subject firm. The workers are engaged in the production of door modules, instrument panels, airbags, steering wheels, and power products for the auto industry.

New information shows that leased workers from Bartech were employed on-site at the Vandalia, Ohio location of Delphi Corporation, Thermal—Vandalia Plant. The Department has determined that these workers were sufficiently under the control of the subject firm to be considered leased workers.

Based on these findings, the Department is amending this certification to include leased workers from Bartech working on-site at the Vandalia, Ohio location of the subject firm.

The intent of the Department's certification is to include all workers employed at Delphi Corporation, Thermal—Vandalia Plant who were adversely affected by a shift in production of door modules, instrument panels, airbags, steering wheels, and power products to Mexico.

The amended notice applicable to TA-W-62,298 is hereby issued as follows:

“All workers of Delphi Corporation, Thermal—Vandalia Plant, including on-site leased workers from Bartech, Vandalia, Ohio, who became totally or partially separated from employment on or after October 11, 2006, through October 24, 2009, are eligible to apply for adjustment assistance under Section 223 of the Trade Act of 1974, and are also eligible to apply for alternative trade adjustment assistance under Section 246 of the Trade Act of 1974.”

Signed at Washington, DC this 9th day of July 2008.
Linda G. Poole,
Certifying Officer, Division of Trade Adjustment Assistance.

[FR Doc. E8-16075 Filed 7-14-08; 8:45 am]

BILLING CODE 4510-FN-P